DEPARTMENT OF TRANSPORTATION

Federal Aviation Administration

[Docket No. FAA-2025-3124]

Notice of Availability of the Final Tiered Environmental Assessment and Finding of No Significant Impact/Record of Decision for Updates to Airspace Closures for Additional Launch Trajectories and Starship Boca Chica Landings of the SpaceX Starship-Super Heavy Vehicle at the SpaceX Boca Chica Launch Site in Cameron County, Texas (Final Tiered EA and FONSI/ROD)

AGENCY: Federal Aviation Administration (FAA), Department of Transportation (DOT).

ACTION: Notice of availability of the Final Tiered EA and FONSI/ROD.

SUMMARY: In accordance with the National Environmental Policy Act of 1969, as amended (NEPA) and FAA Order 1050.1G, FAA National Environmental Policy Act Implementing Procedures, the FAA is announcing the availability of the Final Tiered Environmental Assessment and Finding of No Significant Impact/Record of Decision for Updates to Airspace Closures for Additional Launch Trajectories and Starship Boca Chica Landings of the SpaceX Starship-Super Heavy Vehicle at the SpaceX Boca Chica Launch Site in Cameron County, Texas (Final Tiered EA and FONSI/ROD).

FOR FURTHER INFORMATION CONTACT: Amy B. Hanson, 847-243-7609, amy.hanson@faa.gov.

SUPPLEMENTARY INFORMATION: The FAA previously released the Draft Tiered Environmental Assessment (Draft Tiered EA) for public review and comment on September 19, 2025. Due to a lapse in government funding, the October 7th, 2025 virtual public meeting was cancelled. The public comment period closed on October 20, 2025. The FAA received 27 public comments on the Draft Tiered EA. All public comments submitted on the Draft Tiered EA are available at www.regulations.gov under Docket No. FAA-2025-3124. All comments received on the Draft Tiered EA were given equal weight and taken into consideration. Under the Proposed Action, the FAA would modify SpaceX's vehicle operator license to authorize:

• Updated operations for additional launch trajectories for Starship-Super Heavy operations at the Boca Chica Launch site, and;

• Updated operations for Starship Return to Launch Site mission profiles for Starship-Super Heavy operations at the Boca Chica Launch Site.

The Final Tiered EA also analyzed potential temporary airspace closures associated with the proposed mission profiles.

The FAA has posted the Final Tiered EA and FONSI/ROD on the FAA Office of Commercial Space Transportation website: https://www.faa.gov/space/stakeholder_engagement/spacex_starship.

The Unique ID for this document is PEAX-012-12-000-1758121750.

Issued in Washington, DC, on: February 17, 2026.
Stacey Molinich Zee,
Manager, Operations Support Branch.

[FR Doc. 2026-03291 Filed 2-18-26; 8:45 am]

BILLING CODE 4910-13-P